DEFENSE NUCLEAR FACILITIES SAFETY BOARD

Sunshine Act Meeting

Pursuant to the provision of the “Government in the Sunshine Act” (5 U.S.C. § 552b), notice is hereby given of the Defense Nuclear Facilities Safety Board's (Board) meeting described below.

TIME AND DATE OF MEETING: 9 a.m., May 23, 2001.

PLACE: The Defense Nuclear Facilities Safety Board, Public Hearing Room, 625 Indiana Avenue, NW, Suite 300, Washington, DC 20004.

STATUS: Open.

MATTERS TO BE CONSIDERED: The Department of Energy (DOE) requires contractors at defense nuclear facilities to develop and implement nuclear quality assurance programs to ensure the requisite quality of operations, products, and services that directly affect nuclear safety-related systems and operations. Activities required to be conducted under established quality assurance programs extend from scientific studies, to the design, construction, operation, and deactivation of defense nuclear facilities. Notwithstanding contract and rule requirements concerning quality assurance, there is evidence that quality assurance programs at defense nuclear facilities are not consistently achieving their quality objectives.

This is the second in a series of open meetings being held by the Defense Nuclear Facilities Safety Board (Board) on the topic of quality assurance within DOE nuclear defense activities. Board inquiries will address (1) quality assurance requirements and practices in related industries, and (2) the implementation of DOE quality assurance requirements at selected sites.

FOR FURTHER INFORMATION CONTACT: Richard A. Azzaro, General Counsel, Defense Nuclear Facilities Safety Board, 625 Indiana Avenue, NW, Suite 700, Washington, DC 20004, (800) 788-4016. This is a toll-free number.

SUPPLEMENTARY INFORMATION: The Defense Nuclear Facilities Safety Board reserves its right to further schedule and otherwise regulate the course of this meeting, to recess, reconvene, postpone or adjourn the meeting, and otherwise exercise its authority under the Atomic Energy Act of 1954, as amended.

Dated: April 30, 2001.
John T. Conway,
Chairman.

[FR Doc. 01-11162 Filed 4-30-01; 4:17 pm]

BILLING CODE 3670-01-P